DEPARTMENT OF THE INTERIOR

National Park Service

[NPS-WASO-NAGPRA-23004; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian tribes or Native Hawaiian organizations, has determined that the cultural items listed in this notice meet the definition of sacred objects. Lineal descendants or representatives of any Indian tribe or Native Hawaiian organization not identified in this notice that wish to claim these cultural items should submit a written request to the Denver Museum of Nature & Science. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science at the address in this notice by April 12, 2017.

ADDRESSES: Chip Colwell, Senior Curator of Anthropology and NAGPRA Officer, Denver Museum of Nature & Science, 2001 Colorado Boulevard, Denver, CO 80205, telephone (303) 370-6378, email Chip.Colwell@dmns.org.

SUPPLEMENTARY INFORMATION: Notice is here given in accordance with the Native American Graves Protection and Repatriation Act (NAGPRA), 25 U.S.C. 3005, of the intent to repatriate cultural items under the control of the Denver Museum of Nature & Science, Denver, CO, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1959 and 1968, Mary and Francis Crane purchased six cultural items from multiple collectors. The six sacred objects are four False Face masks (AC.4167, AC.4392, AC.9720, and AC.9743) and two corn husk masks (AC.8552 and AC.10791). Two False Face masks (AC.4167 and AC.4392) may have been part of a group stolen in 1959 from Onondaga keepers, Andrew Pierce, or his son, Stanley Pierce. Andrew Pierce was known to have sold False Face masks, though the sale, trade, collection, and display of False Face masks and corn husk masks has long been a controversial practice. Erich Kohlberg of Kohlberg's Antiques and Indian Arts obtained AC.4167 from Andrew Pierce on an unknown date, it is unclear whether the mask was purchased or not. The mask was then sold to Mary and Francis Crane on June 10, 1959, and the Cranes donated it to the Denver Museum of Nature & Science (DMNS; then called the Denver Museum of Natural History) in November 1972. Willis G. Tilton of Tilton Relics obtained AC.4392 from Andrew Pierce on an unknown date, it is unclear whether the mask was purchased or not. The mask was then sold to the Cranes on August 22, 1959, the Cranes then donated it to the DMNS on May 27, 1983. The False Face masks (AC.9720 and AC.9743) were purchased by the Cranes on December 15, 1965, from Gerald Fenstermaker, and were donated to the DMNS on May 27, 1983. The corn husk mask (AC.8552) was purchased from Fenstermaker by the Cranes on August 14, 1965, and was donated to the DMNS on May 27, 1983. The corn husk mask (AC.10791) was originally owned by Josephine Hill, a member of the Onondaga Nation born in 1896. Fenstermaker obtained the mask from her and sold it to Mary and Francis Crane on April 5, 1968. The Cranes then donated it to DMNS on May 27, 1983.

Museum accession, catalogue, and documentary records, as well as consultation with representatives of the Onondaga Nation, New York, indicate that the six cultural items are Haudenosaunee, and are from the Onondaga Reservation, New York. The six cultural items relate to the False Face Society and the Corn Husk Mask Society. The False Face masks and the spirits they represent are called Hodo'wi by the Onondaga. These masks are used ceremonially by the False Face Society, a medicine society of the Haudenosaunee. The corn husk masks are associated with the Corn Husk Mask Society and are used in its ceremonies.

Determinations Made by the Denver Museum of Nature & Science

Officials of the Denver Museum of Nature & Science have determined that:

• Pursuant to 25 U.S.C. 3001(3)(C), the six cultural items described above are specific ceremonial objects needed by traditional Native American religious leaders for the practice of traditional Native American religions by their present-day adherents.

• Pursuant to 25 U.S.C. 3001(2), there is a relationship of shared group identity that can be reasonably traced between the sacred objects and the Onondaga Nation.

Additional Requestors and Disposition

Lineal descendants or representatives of any Indian tribe or Native Hawaiian organization not identified in this notice that wish to claim these cultural items should submit a written request with information in support of the claim to Chip Colwell, Senior Curator of Anthropology and NAGPRA Officer, Denver Museum of Nature & Science, 2001 Colorado Boulevard, Denver, CO 80205, telephone (303) 370-6378, email Chip.Colwell@dmns.org, by April 12, 2017. After that date, if no additional claimants have come forward, transfer of control of the sacred objects to Onondaga Nation may proceed.

The Denver Museum of Nature & Science is responsible for notifying the Onondaga Nation that this notice has been published.

Dated: February 27, 2017.
Melanie O'Brien,
Manager, National NAGPRA Program.

[FR Doc. 2017-04855 Filed 3-10-17; 8:45 am]

BILLING CODE 4312-52-P